NUCLEAR REGULATORY COMMISSION

[Docket Nos. STN 50-528, 529, 530 and 72-44]

Arizona Public Service Company, Palo Verde Nuclear Generating Station, Units 1, 2 and 3; Environmental Assessment and Finding of No Significant Impact

The U.S. Nuclear Regulatory Commission (NRC or Commission) is considering issuance of an exemption from Title 10 of the Code of Federal Regulations (10 CFR) Part 72 for the general license utilized by the Arizona Public Service Company (APS or licensee). The exemption is pursuant to 10 CFR 72.7 for the storage of spent fuel in an independent spent fuel storage installation (ISFSI) associated with the operation of the Palo Verde Nuclear Generating Station, Units 1, 2, and 3 (PVNGS), located in Maricopa County, Arizona. Therefore, as required by 10 CFR 51.21, the NRC is issuing this environmental assessment and finding of no significant impact.

Environmental Assessment

Identification of the Proposed Action

The proposed action would exempt Arizona Public Service Company from the requirements of 10 CFR 72.212(a)(2), 72.212(b)(2)(i)(A), 72.212(b)(7), and 10 CFR 72.214 for PVNGS Units 1, 2, and 3. These regulations specifically require compliance with the conditions set forth in the Certificate of Compliance (CoC) for each dry spent fuel storage cask used by an ISFSI general licensee. The dry cask storage system used by APS is the NAC-UMS Universal Storage System, Certificate of Compliance Number 1015. The NAC-UMS CoC provides conditions for requirements of Appendix A, Technical Specifications, and Appendix B, Approved Content and Design Features. The proposed action would allow APS to deviate from (1) the removable surface contamination limits in LCO 3.2.1 of Appendix A, and (2) the vertical seismic limits in paragraph B 3.4.1.3 of Appendix B. The proposed action would implement the limits requested by NAC International in the NAC-UMS CoC amendment request currently under staff review.

The proposed action is in accordance with the licensee's application dated May 1, 2002, as supplemented by letter dated June 19, 2002.

The Need for the Proposed Action

The proposed action is needed because APS plans to begin its initial dry cask spent fuel loading campaign with PVNGS Unit 2 in November 2002. APS plans to continue loading spent fuel in dry cask storage with PVNGS Unit 1 in May 2003 and PVNGS Unit 3 in January 2004. The licensee has stated that Unit 2 will lose its full-core offload capability following the fall 2003 refueling outage. Units 1 and 3 will lose their full-core offload capability upon startup from the following outages, consecutively. The initial loading of spent fuel into dry casks needs to be accomplished during winter 2002 to support subsequent refueling outage schedules and dry cask load schedules for all the units. Deferral of the cask loading campaign is not desired because the preparation, time and resources required are extensive and would significantly impact the associated unit refueling outage. Additionally, dry cask loading operations cannot be conducted for a unit during the same time as refueling activities because of new fuel receipt and use of the same APS staff. If the first cask loading campaign is deferred the delay would cascade to subsequent units, remove any margin from subsequent cask load schedules, increase scheduling pressures, and potentially impact plant safety. The proposed action is necessary because the 10 CFR 72.214 rulemaking to implement the NAC-UMS CoC amendment is not projected for completion until December 2002, which will not support the APS dry cask storage loading schedule.

Environmental Impacts of the Proposed Action

The NRC has completed its evaluation of the proposed action and concludes that there is no significant environmental impact if the exemption is granted. The potential environmental impact of using the NAC-UMS Universal Storage System was initially presented in the Environmental Assessment (EA) for the Final Rule to add the NAC-UMS Universal Storage System to the list of approved spent fuel storage casks in 10 CFR 72.214 (65 FR 62581, dated November 20, 2000), as revised in Amendment No. 1 (65 FR 76896, dated February 20, 2001) and in Amendment No. 2 (66 FR 52486, dated October 16, 2001). The revised surface contamination and vertical seismic limits do not increase the probability or consequences of accidents, no changes are being made in the types of any effluents that may be released offsite, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Alternatives to the Proposed Action

Since there is no significant environmental impact associated with the proposed action, alternatives with equal or greater environmental impact were not evaluated. As an alternative to the proposed action, the staff considered denial of the proposed action. Denial of the exemption would result in no change in current environmental impact, but would result in a potential dose increase to workers involved in cask decontamination activities.

Agencies and Persons Consulted

On September 3, 2002, the staff consulted with Mr. William Wright of the Arizona Radiation Regulatory Agency, regarding the environmental impact of the proposed action. He had no comments.

Finding of No Significant Impact

The environmental impacts of the proposed action have been reviewed in accordance with the requirements set forth in 10 CFR part 51. Based on the foregoing Environmental Assessment, the Commission finds that the proposed action of granting an exemption from 10 CFR 72.212(a)(2), 72.212(b)(2)(i)(A), 72.212(b)(7), and 72.214 allowing Arizona Public Service Company to deviate from the removable surface contamination limits and the vertical seismic limits, will not significantly impact the quality of the human environment. Accordingly, the Commission has determined not to prepare an environmental impact statement for the proposed action.

For further details with respect to this exemption request, see the APS letter dated May 1, 2002, as supplemented by letter dated June 19, 2002. The request for exemption was docketed under 10 CFR part 72, Docket 72-44. The NRC maintains an Agencywide Documents Access and Management System (ADAMS), which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, or 301-415-4737, or by e-mail at pdr@nrc.gov.

Dated at Rockville, Maryland, this 24th day of September, 2002.
For the Nuclear Regulatory Commission.
E. William Brach,
Director, Spent Fuel Project Office, Office of Nuclear Material Safety and Safeguards.

[FR Doc. 02-25082 Filed 10-1-02; 8:45 am]

BILLING CODE 7590-01-P